DEPARTMENT OF AGRICULTURE

Cooperative State Research, Education, and Extension Service

Request for Proposals: Fund for Rural America, FY 2001

AGENCY: Cooperative State Research, Education, and Extension Service, USDA.

ACTION: Notice of request for proposals and request for input.

SUMMARY: The Cooperative State Research, Education, and Extension Service (CSREES) announces the availability of grant funds and requests proposals for the Fund for Rural America (FFRA) for fiscal year (FY) 2001 to support competitively awarded research, extension and education grants addressing key issues that contribute to economic diversification and sustainable development in rural areas. The amount available for support of this program in FY 2001 is approximately $9,500,000.

This notice sets out the objectives for these projects, the eligibility criteria for projects and applicants, the application procedures, and the set of instructions needed to apply for an FFRA grant.

By this notice, CSREES additionally solicits stakeholder input from any interested party regarding the FY 2001 FFRA Request for Proposals (RFP) for use in development of any future RFPs for this program.

DATES: Proposals must be received on or before 5:00 p.m., June 19, 2001. Proposals received after this date will not be considered for funding. Comments regarding this RFP are invited for six months from the issuance of this notice. Comments received after that date will be considered to the extent practicable.

ADDRESSES: The address for hand-delivered proposals or proposals submitted using an express mail or overnight courier service is: Fund for Rural America; c/o Proposal Services Unit; Cooperative State Research, Education, and Extension Service; U.S. Department of Agriculture; Room 1307, Waterfront Centre; 800 9th Street, SW., Washington, DC 20024, telephone: 202-205-0241.

Proposals sent via the U.S. Postal Service must be sent to the following address: Fund for Rural America; c/o Proposal Services Unit; Cooperative State Research, Education, and Extension Service; U.S. Department of Agriculture; STOP 2245; 1400 Independence Avenue, SW., Washington, DC 20250-2245.

Written stakeholder comments should be submitted by mail to: Policy and Program Liaison Staff; Office of Extramural Programs; Cooperative State Research, Education, and Extension Service; U.S. Department of Agriculture; STOP 2299; 1400 Independence Avenue, SW., Washington, DC 20250-2299; or via e-mail to: RFP-OEP@reeusda.gov. (This e-mail address is intended only for receiving comments regarding this RFP and not for requesting information or forms.) In your comments, please state that you are responding to the FY 2001 FFRA RFP.

FOR FURTHER INFORMATION CONTACT: Dr. Phillip Schwab, Program Co-Director FFRA, telephone: 202-720-4423, e-mail: pschwab@reeusda.gov, or Dr. Elizabeth Tuckermanty, Co-Director FFRA, telephone: 202-205-0241, e-mail: etuckermanty@reeusda.gov, Cooperative State Research, Education, and Extension Service; U.S. Department of Agriculture; STOP 2241; 1400 Independence Avenue, SW., Washington, DC 20250-2241; telephone: 202-205-0241, e-mail: etuckermanty@reeusda.gov.

Table of Contents

Stakeholder Input

Catalog of Federal Domestic Assistance

Part I. General Information

A. Legislative Authority

B. Purpose, Priorities and Fund Availability

C. General Definitions

D. Eligibility

E. Matching Funds Requirement

F. Types of Proposals

G. Restrictions on Use of Funds

Part II. Program Description

A. Purpose of the Program

B. Approach

C. FY 2001 Program Areas

Part III. Preparation of a Proposal

A. Program Application Materials

B. Content of Proposals

C. Submission of Proposals

D. Acknowledgment of Proposals

E. Current Research Information System (CRIS)

Part IV. Review Process

A. General

B. Evaluation Factors

C. Conflicts-of-Interest and Confidentiality

Part V. Additional Information

A. Access To Review Information

B. Grant Awards

C. Funding Mechanism

D. Use of Funds; Changes

E. Applicable Federal Statutes and Regulations

F. Confidential Aspects of Proposals and Awards

G. Regulatory Information

Stakeholder Input

CSREES is requesting comments regarding the Fund for Rural America FY 2001 RFP from any interested party. In your comments, please include the name of the program and the fiscal year RFP to which you are responding. These comments will be considered in the development of the next RFP for the program. Such comments will be used in meeting the requirements of section 103(c)(2) of the Agricultural Research, Extension, and Education Reform Act of 1998, 7 U.S.C. 7613(c). Comments should be submitted as provided in the ADDRESSES portion of this notice.

Catalog of Federal Domestic Assistance

The Catalog of Federal Domestic Assistance (CFDA) number for this program is 10.224.

Part I. General Information

A. Legislative Authority

The Fund for Rural America, authorized under section 793 of the Federal Agriculture Improvement and Reform Act of 1996 (FAIR Act) (7 U.S.C. 2204(f)), is established as an account in the Treasury of the United States. The Agricultural Research, Extension, and Education Reform Act of 1998 amended the FAIR Act to provide $60 million on October 1 in each FY until FY 2003 for rural development activities and a competitive grant program for research, education, and extension activities. Not less than one-third of the funds will be available for research, education, and extension activities, one-third will be available for the Department's rural development activities, and one-third will be allocated between the rural development and research activities according to the Secretary's discretion. Section 722 of the FY 2001 Agriculture Appropriations Act (Pub. L. 106-387) allowed for the expenditure of $30 million of FY 2000 funds for the FY 2001 FFRA. Of these available funds, the Secretary of Agriculture has determined that $10 million (prior to reductions for administrative costs) will be available for competitive grants for research, education and extension activities in FY 2001.

Grants are to be awarded on the basis of merit, quality, and relevance to advancing the purposes of federally supported agricultural research, extension, and education provided in section 1402 of the National Agricultural Research, Extension, and Teaching Policy Act of 1977, as amended (7 U.S.C. 3101). Section 1402 identifies the following purposes:

(1) enhance the competitiveness of the United States agriculture and food industry in an increasingly competitive world environment;

(2) increase the long-term productivity of the United States agriculture and food industry while maintaining and enhancing the natural resource base on which rural America and the United States agricultural economy depend;

(3) develop new uses and new products for agricultural commodities, such as alternative fuels, and develop new crops;

(4) support agricultural research and extension to promote economic opportunity in rural communities and to meet the increasing demand for information and technology transfer throughout the United States agriculture industry;

(5) improve risk management in the United States agriculture industry;

(6) improve the safe production and processing of, and adding of value to, United States food and fiber resources using methods that maintain the balance between yield and environmental soundness;

(7) support higher education in agriculture to give the next generation of Americans the knowledge, technology, and applications necessary to enhance the competitiveness of United States agriculture; and

(8) maintain an adequate, nutritious, and safe supply of food to meet human nutritional needs and requirements.”

Section 793(c)(2)(A) of the FAIR Act authorizes the Secretary to use FFRA for competitive research, education, and extension grants to:

(i) increase international competitiveness, efficiency, and farm profitability;

(ii) reduce economic and health risks;

(iii) conserve and enhance natural resources;

(iv) develop new crops, new crop uses, and new agricultural applications of biotechnology;

(v) enhance animal agricultural resources;

(vi) preserve plant and animal germplasm;

(vii) increase economic opportunities in farming and rural communities; and

(viii) expand locally-owned, value-added processing.

B. Purpose, Priorities and Fund Availability

Congress established FFRA in 1996 to develop, adapt, and apply science-based knowledge to the expected challenges faced by American farmers and rural communities as reforms to Federal farm programs were enacted such as commodity program deficiency payments phase outs. FFRA was first administered in 1997 and funded grants which focused on (1) international agricultural competitiveness, (2) environmental stewardship, and (3) improved quality of life in rural areas.

In 1998, the Initiative for Future Agriculture and Food Systems (IFAFS) was established to address critical emerging issues in production agriculture including priority mission areas relating to agricultural genomics and biotechnology, food safety and human nutrition, new uses, farm profitability, and natural resources management. CSREES will administer the FY 2001 FFRA and IFAFS programs in a coordinated manner, with the FFRA emphasizing knowledge that contributes to economic diversification and sustainable development in rural areas, and IFAFS focusing on efficiency, use, and consequences of agricultural production. Thus, this RFP solicits research, education and extension to address two of the statutory purposes of FFRA: increase economic opportunities in farming and rural communities and expand locally-owned value-added processing.

There is no commitment by USDA to fund any particular proposal or to make a specific number of awards. Approximately $9,500,000 is available in FY 2001 to award standard grants of up to a total of $600,000 over four years in the following priority areas: (1) Rural Community Innovation; and (2) Harnessing Demographic Change to Increase Rural Opportunity.

Not less than 15 percent of the funds awarded under this program will be used for grants to smaller institutions as defined in section I. C.

C. General Definitions

For this program, the following definitions apply:

(1) Administrator means the Administrator of CSREES and any other officer or employee of the Department to whom the authority involved is delegated.

(2) Authorized departmental officer means the Secretary or any employee of the Department who has the authority to issue or modify grant instruments on behalf of the Secretary.

(3) Authorized organizational representative means the president or chief executive officer of the applicant organization, or the official designated by the president or chief executive officer of the applicant organization, who has the authority to commit the resources of the organization.

(4) Budget period means the interval of time (usually 12 months) into which the project period is divided for budgetary and reporting purposes.

(5) Cash contributions means the applicant's cash outlay, including the outlay of money contributed to the applicant by non-Federal third parties.

(6) Department or USDA means the United States Department of Agriculture.

(7) Grant means the award by the Secretary of funds to a grantee to assist in meeting the costs of conducting, for the benefit of the public, an identified project which is intended to further the program purpose as identified in this RFP.

(8) Grantee means the organization designated in the award document as the responsible legal entity receiving the award.

(9) In-kind contributions means non-cash contributions of property or services provided by the grantee or non-Federal third parties, including real property, equipment, supplies and other expendable property, directly benefitting and specifically identifiable to a funded project or program.

(10) Matching means that portion of allowable project costs not borne by the Federal Government, including the value of in-kind contributions.

(11) Peer review panel means a group of persons qualified by training and experience in particular fields to give expert advice on the merit of grant applications in such fields.

(12) Private research organization means any non-governmental corporation, partnership, proprietorship, trust, or other organization with an established and demonstrated capacity to perform research or technology transfer which (1) either (A) conducts any systematic study directed toward new or fuller knowledge and understanding of the subject studied or (B) systematically relates or applies the findings of research or scientific experimentation to the application of new approaches to problem solving, technologies, or management practices; and (2) has facilities, qualified personnel, independent funding, and prior projects and accomplishments in research or technology transfer.

(13) Project director means the individual designated by the grantee in the grant application and approved by the Secretary who is responsible for the direction and management of the project.

(14) Prior approval means written approval evidencing prior consent by an authorized departmental officer.

(15) Project means the particular activity within the program scope supported by a grant award.

(16) Project period means the period, as stated in the award document during which Federal sponsorship begins and ends.

(17) Secretary means the Secretary of Agriculture and any other officer or employee of the Department to whom the authority involved may be delegated.

(18) Smaller institution means a college or university or a research foundation maintained by a college or university that ranks in the lower one-third of such colleges, universities, or foundations on the basis of Federal research funds received (excepting monies received under the FFRA).

D. Eligibility

Proposals may be submitted by Federal research agencies, national laboratories, colleges and universities and research foundations maintained by a college or university, and private research organizations. National laboratories include Federal laboratories that are government-owned contractor-operated or government-owned government-operated. If the applicant is a private organization, documentation must be submitted evidencing that the private organization has an established and demonstrated capacity to perform research or technology transfer. Documentary evidence shall provide specific information regarding relevant staff or organizational experience, including publications, credentials, and past or current projects. A programmatic decision on the eligibility status of the private organization will be made based on the information submitted.

E. Matching Funds Requirement

A grant awarded for applied research that is commodity-specific and that is not of national scope must be matched by the recipient with equal funds from a non-Federal source. The matching requirement may be satisfied through cash and in-kind contributions for allowable costs incurred by the recipient or subrecipient.

F. Types of Proposals

In FY 2001, all projects must be submitted as New Proposals. A new proposal is a project proposal that has not been previously submitted to the FFRA Program. All new proposals will be reviewed competitively using the selection process and evaluation criteria described in Part IV. Review Process.

G. Restrictions on Use of Funds

FFRA funds may not be used for the renovation or refurbishment of research spaces; the purchase or installation of fixed equipment in such spaces; or the planning, repair, rehabilitation, acquisition, or construction of buildings or facilities.

Part II. Program Description

A. Purpose of the Program

Economically healthy rural communities are a key factor in maintaining the competitiveness of U.S. agriculture. The FFRA was, in part, designed to direct resources to the development of research, education and extension programs which can help rural communities and citizens improve their economic outlook and devise effective approaches to community and rural development. Dramatic demographic changes and recent innovations in agricultural practices and community development methods offer new challenges and opportunities. An aging population, the arrival of new immigrant populations, youth retention and workforce development are all having an impact on the rural economy. Rural communities need to understand these demographic forces and develop capacity to turn them into economic promise. Communities also must develop the capacity to translate on- and off-farm innovations into economic growth and community prosperity. Value-added processing, e-commerce, distance learning, niche markets and new industries can help rural communities share more fully in economic opportunities, especially where they are part of holistic approaches to community development. CSREES is offering a two part program with the expectation that the agency will award up to 15 grants not to exceed $600,000 each to form the long-term, multi-state networks and develop programs to address these critical issues facing rural America.

B. Approach

The FFRA will be available for cutting-edge research and technology development, extension and related outreach, and education projects which will result in breakthrough solutions to critical, well-defined problems. Projects will be awarded for short- and intermediate-term application of research and development through integration of research, extension and education activities. The FFRA program emphasizes the importance of systems-based, outcome-oriented approaches to problem solving. Projects should involve relevant stakeholders such as producers, entrepreneurs, environmentalists, community organizations, and non-governmental organizations, and should address issues of national, regional, or multi-state importance. Therefore, CSREES will give priority to projects that are designed and proposed by eligible recipients in collaboration with institutions, organizations and communities of interest. Strong partnerships will be critical to apply research, education and extension to address user needs and solve community-defined problems. In assessing proposals, priority will be given for systems-based, inter-disciplinary, integrated approaches that leverage prior research investments and include innovative collaborations and partnerships with the goal of improving the quality of life in rural America. The two FFRA program areas for FY 2001 are “Rural Community Innovation” and “Harnessing Demographic Change to Increase Rural Opportunity”.

C. FY 2001 Program Areas

1. Rural Community Innovation (RCI)

This program area seeks research, education, and extension proposals that will help rural communities address existing and new problems in innovative ways. Proposals should focus on two broad areas: holistic systems-based community development and the connections between agriculture and community development. The goals are to generate and share new knowledge to assist rural communities to diversify their economies, develop and maintain profitable farms and businesses, build community leadership and decision-making capacity, and create new strategies for improving community services.

Applications are encouraged that will increase knowledge and build capacity for holistic community development by seeking to understand the ways different kinds of community assets are related including human, social, natural and financial capital, by applying a new generation of information technology and computer based tools to community planning, development, and decision-making, and by increasing the capacity for citizens in communities to lead the development process.

Applications are encouraged that will increase knowledge and build capacity about the connections between innovative, entrepreneurial agriculture and community development by understanding the relationships among farms, businesses, and community institutions, by understanding the community implications of moving to a bio-based economy, by furthering the linkages among value-added agriculture, the regional economy and local communities, and by including farmers in local and regional economic development planning. Applicants should demonstrate that the results of their work will expand economic opportunities in agriculture as well as opportunities in non-agricultural rural economic sectors.

Projects should contribute to new models of rural development and contribute to core understandings of factors that lead to rural and community prosperity. Successful projects will work collaboratively with community-based partners in order to achieve specific outcomes relevant to those communities, such as resilient farms, businesses, and communities; but they must also contribute to larger understandings that can be used broadly to benefit all of rural America.

2. Harnessing Demographic Change to Increase Rural Opportunity (HDC)

This program area seeks proposals that incorporate elements of research, education and extension that will help communities understand the phenomena of demographic change in rural America, develop new knowledge to address these issues and educate rural citizens on how to adapt and capitalize on these changes.

Applications are expected to address at least one of the following areas: (a) The aging of rural America, including the development of service economies to serve an aging and retirement-oriented population, involving senior citizens in economic activities, and community planning programs to address housing, leadership and infrastructure issues affected by an aging population; (b) increased immigration to rural America and developing new immigrants as agents of economic vitality, assisting new immigrants to access basic financial, health and employment services, assisting rural communities to adjust to the cultural diversity resulting from the arrival of new immigrants and assisting new immigrant farmers with an understanding of the agricultural markets, risk management and environmental stewardship; and (c) improving youth retention and workforce development including the development of programs to prepare young people for new economy jobs, including e-business training, language skill development and health care education, citizenship and leadership development, and new farmer programs emphasizing new marketing opportunities, financial risk management and technological innovation.

A proposal should include specific and substantive evidence of the ability of the investigators to work within the target communities. This ability should include appropriate language skill ability, experience working with all collaborators, and long-standing and substantive links to the target community. Unique partnerships between rural and urban/suburban cooperators or international partners are also encouraged.

Part III. Preparation of a Proposal

A. Program Application Materials

Program application materials are available at the CSREES website (www.reeusda.gov/fra). If you do not have access to the CSREES web page or have trouble downloading material, you may contact the Proposal Services Unit, Office of Extramural Programs, USDA/CSREES at (202) 401-5048. When calling the Proposal Services Unit, please indicate that you are requesting forms for the FY 2001 FFRA program. These materials may also be requested via Internet by sending a message with your name, mailing address (not e-mail) and phone number to psb@reeusda.gov. State that you want a copy of the RFP and application materials (orange book) for the FY 2001 program.

B. Content of Proposals

1. General

The proposal should follow these guidelines, enabling reviewers to more easily evaluate the merits of each proposal in a systematic, consistent fashion:

(a) The proposal should be prepared on only one side of the page using standard size (8½″ × 11″) white paper, one inch margins, typed or word processed using no type smaller than 12 point font, and single or double spaced. Use an easily readable font face (e.g., Geneva, Helvetica, Times Roman).

(b) Each page of the proposal starting with the Project Description and including the budget pages, required forms, and any appendices, should be numbered sequentially.

(c) The proposal should be stapled in the upper left-hand corner. Do not bind. An original and 14 copies (15 total) must be submitted in one package, along with 10 copies of the “Project Summary” as a separate attachment.

(d) If applicable, proposals should include original illustrations (photographs, color prints, etc.) in all copies of the proposal to prevent loss of meaning through poor quality reproduction.

2. Cover Page

Each copy of each grant proposal must contain an “Application for Funding,” Form CSREES-661. One copy of the application, preferably the original, must contain the pen-and-ink signature(s) of the proposing principal investigator(s)/project director(s) (PI/PD) and the authorized organizational representative who possesses the necessary authority to commit the organization's time and other relevant resources to the project. Any proposed PI/PD or co-PI/PD whose signature does not appear on Form CSREES-661 will not be listed on any resulting grant award. Complete both signature blocks located at the bottom of the “Application for Funding” form.

Form CSREES-661 serves as a source document for the CSREES grant database; it is therefore important that it be completed accurately. The following items are highlighted as having a high potential for errors or misinterpretations:

(a) Title of Project (Block 6). The title of the project must be brief (80-character maximum), yet represent the major thrust of the effort being proposed. Project titles are read by a variety of nonscientific people; therefore, highly technical words or phraseology should be avoided where possible. In addition, introductory phrases such as “investigation of,” “research on,” “education for,” or “outreach that” should not be used.

(b) Program to Which You Are Applying (Block 7) “FFRA.”

(c) Program Area and Number (Block 8). Either “RCI” for Rural Community Innovation or “HDC” for Harnessing Demographic Change to Increase Rural Opportunity should be inserted in this block.

(d) Type of Award Request (Block 13). Check the block for “new.”

(e) Principal Investigator(s)/Project Director(s) (PI/PD) (Block 15). The designation of excessive numbers of co-PI/PDs creates problems during final review and award processing. Listing multiple co-PI/PDs, beyond those required for genuine collaboration, is therefore discouraged. Note that providing a Social Security Number is voluntary, but is an integral part of the CSREES information system and will assist in the processing of the proposal.

(f) Type of Performing Organization (Block 18). A check should be placed in the box beside the type of organization which actually will carry out the effort. For example, if the proposal is being submitted by an 1862 Land-Grant institution but the work will be performed in a department, laboratory, or other organizational unit of an agricultural experiment station, box “03” should be checked. If portions of the effort are to be performed in several departments, check the box that applies to the individual listed as PI/PD #1 in Block 15.a.

(g) Other Possible Sponsors (Block 22). List the names or acronyms of all other public or private sponsors including other agencies within USDA and other CSREES programs to which your application has been or might be sent. In the event you decide to send your application to another organization or agency at a later date, you must inform the identified CSREES Program Director as soon as practicable. Submitting your proposal to other potential sponsors will not prejudice its review by CSREES; however, duplicate support for the same project will not be provided.

3. Table of Contents

For consistency and ease in locating information, each proposal must contain a detailed Table of Contents just after the cover page. The Table of Contents should contain page numbers for each component of the proposal.

4. Project Summary

The proposal must contain a Project Summary of 250 words or less on a separate page placed immediately after the Table of Contents and not numbered. The names and institutions of all PI/PDs and co-PI/PDs should be listed on this form, in addition to the title of the project. The summary should be a self-contained, specific description of the activity to be undertaken and should focus on: overall project goal(s) and supporting objectives; plans to accomplish the project goal(s); and relevance of the project to FFRA goals. The importance of a concise, informative Project Summary cannot be overemphasized.

5. Project Description

The written text may not exceed 15 single- or double-spaced pages of written text including figures and tables, but excluding citations.

Each proposal's Project Description should contain the following:

(a) Introduction—A clear statement of the long-term goal(s) and supporting objectives of the proposed activities should be included. Summarize the body of knowledge or other past activities which substantiate the need for the proposed project. Describe ongoing or recently completed significant activities related to the proposed project including the work of key project personnel. Preliminary information pertinent to the proposed project should be included;

(b) Relevance and significance—The objectives' specific relationship to the FFRA goals and to the particular program area should be stated. Include a description of the significance of the activity and its value in improving rural communities through research, education and extension. Clearly describe the potential impact of the project.

(c) Approach—The activities proposed or problems being addressed must be clearly stated and the approaches being applied clearly described. The following should be included: (1) A description of the activities proposed; (2) methods to be used in carrying out the project, including the feasibility of the methods; (3) expected outcomes; (4) means by which results will be analyzed, assessed, or interpreted; and (5) how results or products will be used.

(d) Time Table—Provide an expected time line for completing the project in the requested duration.

(e) Collaborative Arrangements—Identify collaborations and provide a full explanation of the nature of the collaborations.

(f) Management Plan—Explain how the project will be managed to ensure efficient administration of the grant and how activities will be integrated most effectively.

(g) Evaluation and Monitoring of Project—Provide a plan for assessing and evaluating the accomplishments of the stated proposal objectives during the project and describe ways to determine the effectiveness of the end results during and upon termination of the project.

6. References to Works Cited in the Project Description

All references cited should be complete, including titles and all co-authors, and should conform to an accepted bibliographic format.

7. Appendices to Project Description

Appendices to the Project Description are allowed if they are directly germane to the proposed project and are limited to a total of two of the following: reprints (papers that have been published) and preprints (manuscripts in press); preprints must be accompanied by a letter of acceptance from the publisher.

8. Key Personnel

All key personnel who are expected to be involved in the effort should be clearly identified. For each person the following should be included:

(1) The roles and responsibilities of each PI/PD should be described;

(2) An estimate of time commitment for each PI/PD; and

(3) Vitae of each PI/PD, senior associate and other professional personnel. This section should include vitae of all key persons who are expected to work on the project, whether or not CSREES funds are sought for their support. The vitae should be limited to two (2) pages in length, excluding publication lists. A chronological list of all relevant publications during the past four (4) years, including those in press, must be provided for each project member for which a curriculum vitae is provided. All authors should be listed in the same order as they appear on each paper cited, along with the title and complete reference as these usually appear in bibliographies.

9. Conflict-of-Interest List

A Conflict-of-Interest List must be provided for all individuals identified as key personnel. Each list should be on a separate page and include alphabetically the full names of the individuals in the following categories: (a) All collaborators on projects within the past four years, including current and planned collaborations; (b) all co-authors on publications within the past four years, including pending publications and submissions; (c) all persons in your field with whom you have had a consulting or financial arrangement within the past four years who stand to gain by seeing the project funded; and (d) all thesis or postdoctoral advisees/advisors within the past four years (some may wish to call these life-time conflicts). This form is necessary to assist program staff in excluding from proposal review those individuals who have conflicts-of-interest with the personnel in the grant proposal. The Program Director, under the specific area or sub-area, must be informed of any additional conflicts-of-interest that arise after the proposal is submitted.

10. Collaborative and/or Subcontractual Arrangements

If it will be necessary to enter into formal consulting or collaborative arrangements with others, such arrangements should be fully explained and justified. If the need for consultant services is anticipated, the proposal budget narrative should provide a justification for the use of such services, a statement of work to be performed, a resume or curriculum vitae for each consultant, and rate of pay for each consultant. For purposes of proposal development, informal day-to-day contacts between key project personnel and outside experts are not considered to be collaborative arrangements and thus do not need to be detailed.

All anticipated subcontractual arrangements also should be explained and justified in this section. A proposed statement of work and a budget for each arrangement involving the transfer of substantive programmatic work or the providing of financial assistance to a third party must be provided. A budget narrative for all budget categories where funding is requested is also required. Agreements between departments or other units of your own institution and minor arrangements with entities outside of your institution (e.g., requests for outside laboratory analyses) are excluded from this requirement.

If you expect to enter into subcontractual arrangements, please note that the provisions contained in 7 CFR Part 3019, USDA Uniform Administrative Requirements for Grant and Agreements with Institutions of Higher Education, Hospitals, and Other Non-Profit Organizations, and the general provisions contained in 7 CFR Part 3015.205, USDA Uniform Federal Assistance Regulations, flow down to subrecipients. In addition, required clauses from 7 CFR 3019.40 through 3019.48 (“Procurement Standards”) and Appendix A (“Contract Provisions”) to 7 CFR Part 3019 should be included in final contractual documents, and it is necessary for the subawardee to make a certification relating to debarment/suspension by completing Form AD-1048.

11. Budget

(1) Budget Form—Prepare the budget, Form CSREES-55, in accordance with instructions provided. Budgets of up to a total of $600,000 over four years may be requested. Budgets should be commensurate with activities proposed. A budget form is required for each year of requested support. In addition, a cumulative budget is required detailing the requested total support for the overall project period. The budget form may be reproduced as needed by applicants. Funds may be requested under any of the categories listed on the form, provided that the item or service for which support is requested is allowable under the authorizing legislation, the applicable Federal cost principles, and these program guidelines, and can be justified as necessary for the successful conduct of the proposed project. Applicants must also include a Budget Narrative to justify their budgets (see paragraph (2) below.)

The following guidelines should be used in developing your proposal budget(s):

(A) Salaries and Wages. Salaries and wages are allowable charges and may be requested for personnel who will be working on the project in proportion to the time such personnel will devote to the project. If salary funds are requested, the number of key and Other Personnel and the number of CSREES-Funded Work Months must be shown in the spaces provided. Grant funds may not be used to augment the total salary or rate of salary of project personnel or to reimburse them for time in addition to a regular full-time salary covering the same general period of employment. Salary funds requested must be consistent with the normal policies of the institution.

(B) Fringe Benefits. Funds may be requested for fringe benefit costs if the usual accounting practices of your organization provide that organizational contributions to employee benefits (social security, retirement, etc.) be treated as direct costs. Fringe benefit costs may be included only for those personnel whose salaries are charged as a direct cost to the project.

(C) Nonexpendable Equipment. Nonexpendable equipment means tangible nonexpendable personal property including exempt property charged directly to the award having a useful life of more than one year and an acquisition cost of $5,000 (or lower, depending on institutional policy) or more per unit. Qualifying items of necessary instrumentation or other nonexpendable equipment should be listed individually by description and estimated cost in the Budget Narrative. This applies to revised budgets as well, as the equipment item(s) and amount(s) may change.

(D) Materials and Supplies. The types of expendable materials and supplies which are required to carry out the project should be indicated in general terms with estimated costs in the Budget Narrative.

(E) Travel. The type, destination and specific purpose of travel and its relationship to project objectives should be described briefly and justified. If foreign travel is proposed, the country to be visited, the specific purpose of the travel, a brief itinerary, inclusive dates of travel, and estimated cost must be provided for each trip. Airfare allowances normally will not exceed round-trip jet economy air accommodations. U.S. flag carriers must be used when available. See 7 CFR Part 3015.205(b)(4) for further guidance.

(F) Publication Costs/Page Charges. Include anticipated costs associated with print and electronic publications (preparing and publishing results including page charges, necessary illustrations, and the cost of a reasonable number of coverless reprints), websites and audio-visual materials that will be produced. Photocopying and printing brochures, etc., should be shown in Section (H), “All Other Direct Costs” of Form CSREES-55.

(G) Computer (ADPE) Costs. Reimbursement for the costs of using specialized facilities (such as a university- or department-controlled computer mainframe or data processing center) may be requested if such services are required for completion of the work.

(H) All Other Direct Costs. Anticipated direct project charges not included in other budget categories must be itemized with estimated costs and justified in the Budget Narrative. This also applies to revised budgets, as the item(s) and dollar amount(s) may change. Examples may include space rental at remote locations, subcontractual costs, consulting services, telephone, facsimile, shipping costs, and fees necessary for laboratory analyses. You are encouraged to consult the “Instructions for Completing Form CSREES-55, Budget,” of the Application Kit for detailed guidance relating to this budget category.

(I) Indirect Costs—Section 1462 of the National Agricultural Research, Extension, and Teaching Policy Act of 1977 (7 U.S.C. 3310) limits indirect costs for this program to 19 percent of total Federal funds provided under each award. Therefore, the recovery of indirect costs under this program may not exceed the lesser of the institution's official negotiated indirect cost rate or the equivalent of 19 percent of total Federal funds awarded. Another method of calculating the maximum allowable is 23.456 percent of the total direct costs. If no rate has been negotiated, a reasonable dollar amount (equivalent to or less than 19 percent of total Federal funds requested) in lieu of indirect costs may be requested, subject to approval by USDA.

(2) Budget Narrative—All budget categories for which support is requested, with the exception of Indirect Costs, must be individually listed (with costs) and justified on a separate sheet of paper and placed immediately behind the Budget Form.

(3) Matching Funds—Explanations of matching funds or lack thereof on commodity-specific projects also are to be included in the Budget Narrative. If an applicant concludes that matching funds are not required as specified in Part I. E., a justification should be included. CSREES will consider this justification when ascertaining final matching requirements. CSREES retains the right to make final determinations regarding matching requirements.

For those grants requiring matching funds as specified in Part I. E., proposals should include written verification of commitments of any matching support (including both cash and in-kind contributions) from third parties. Written verification means:

(a) For any third party cash contributions, a separate pledge agreement for each donation, signed by the authorized organizational representatives of the donor organization and the applicant organization, which must include: (1) The name, address, and telephone number of the donor; (2) the name of the applicant organization; (3) the title of the project for which the donation is made; (4) the dollar amount of the cash donation; and (5) a statement that the donor will pay the cash contribution during the grant period; and

(b) For any third party in-kind contributions, a separate pledge agreement for each contribution, signed by the authorized organizational representatives of the donor organization and the applicant organization, which must include: (1) The name, address, and telephone number of the donor; (2) the name of the applicant organization; (3) the title of the project for which the donation is made; (4) a good faith estimate of the current fair market value of the third party in-kind contribution; and (5) a statement that the donor will make the contribution during the grant period.

The sources and amount of all matching support from outside the applicant institution should be summarized on a separate page and placed in the proposal immediately following the Budget Narrative. All pledge agreements must be placed in the proposal immediately following the summary of matching support.

The value of applicant contributions to the project shall be established in accordance with applicable cost principles. Applicants should refer to OMB Circulars A-21, Cost Principles for Educational Institutions; A-87, Cost Principles for State, Local and Indian Tribal Governments; A-122, Cost Principles for Non-Profit Organizations; and for for-profit organizations, the cost principles in the Federal Acquisition Regulation at 48 CFR Subpart 31.2 (see 7 CFR 3015.194).

12. Current and Pending Support

All proposals must contain Form CSREES-663 listing other current public or private support (including in-house support) to which key personnel identified in the proposal have committed portions of their time, whether or not salary support for the person(s) involved is included in the budget. Analogous information must be provided for any pending proposals that are being considered by, or that will be submitted in the near future to, other possible sponsors, including other USDA Programs or agencies. Concurrent submission of identical or similar proposals to the possible sponsors will not prejudice proposal review or evaluation by CSREES. However, a proposal that duplicates or overlaps substantially with a proposal already reviewed and funded (or to be funded) by another organization or agency will not be funded under this program. Note that the project being proposed should be included in the pending section of the form.

13. Assurance Statement(s) (Form CSREES-662)

A number of situations encountered in the conduct of projects require special assurances, supporting documentation, etc., before funding can be approved for the project. In addition to any other situation that may exist with regard to a particular project, it is expected that some applications submitted in response to these guidelines will involve the following:

a. Recombinant DNA or RNA Research. As stated in 7 CFR Part 3015.205 (b)(3), all key personnel identified in the proposal and all endorsing officials of the proposing organization are required to comply with the guidelines established by the National Institutes of Health entitled, “Guidelines for Research Involving Recombinant DNA Molecules,” as revised. If your project proposes to use recombinant DNA or RNA techniques, you must so indicate by checking the “yes” box in Block 19 of Form CSREES-661 (the Cover Page) and by completing Section A of Form CSREES-662. For applicable proposals recommended for funding, Institutional Biosafety Committee approval is required before CSREES funds will be released.

b. Animal Care. Responsibility for the humane care and treatment of live vertebrate animals used in any grant project supported with funds provided by CSREES rests with the performing organization. Where a project involves the use of living vertebrate animals for experimental purposes, all key project personnel identified in a proposal and all endorsing officials of the proposing organization are required to comply with the applicable provisions of the Animal Welfare Act of 1966 (7 U.S.C. 2131 et seq. and the regulations promulgated thereunder by the Secretary in 9 CFR Parts 1, 2, 3, and 4 pertaining to the care, handling, and treatment of these animals. If your project will involve these animals, you should check “yes” in block 20 of Form CSREES-661 and complete Section B of Form CSREES-662. In the event a project involving the use of live vertebrate animals results in a grant award, funds will be released only after the Institutional Animal Care and Use Committee has approved the project.

c. Protection of Human Subjects. Responsibility for safeguarding the rights and welfare of human subjects used in any grant project supported with funds provided by CSREES rests with the performing organization. Guidance on this issue is contained in the National Research Act, Pub. L. No. 93-348 and implementing regulations promulgated by the Department under 7 CFR Part 1c. If you propose to use human subjects for experimental purposes in your project, you should check the “yes” box in Block 21 of Form CSREES-661 and complete Section C of Form CSREES-662. In the event a project involving human subjects results in a grant award, funds will be released only after the appropriate Institutional Review Board has approved the project. The approval must have been received at most one year prior to the grant award.

14. Certifications

Note that by signing Form CSREES-661 the applicant is providing certifications required by 7 CFR Part 3017, regarding Debarment and Suspension and Drug Free Workplace, and 7 CFR Part 3018, regarding Lobbying. The certification forms are included in the application package for informational purposes only. These forms should not be submitted with the proposal since by signing form CSREES-661 your organization is providing the required certifications. If the project will involve a subcontractor or consultant, the subcontractor/consultant should submit a form AD-1048 to the grantee organization for retention in their records. This form should not be submitted to USDA.

15. Compliance With the National Environmental Policy Act (NEPA), Form CSREES-1234

As outlined in 7 CFR Part 3407 (the CSREES supplemental regulations implementing NEPA), the environmental data for any proposed project is to be provided to CSREES so that CSREES may determine whether any further action is needed. In some cases, the preparation of environmental data may not be required. Certain categories of actions are excluded from the requirements of NEPA.

In order for CSREES to determine whether any further action is needed with respect to NEPA, pertinent information regarding the possible environmental impacts of a particular project is necessary; therefore, Form CSREES-1234, “NEPA Exclusions Form,” must be included in the proposal indicating whether the applicant is of the opinion that the project falls within a categorical exclusion and the reasons therefore. If it is the applicant's opinion that the proposed project falls within the categorical exclusions, the specific exclusion(s) must be identified. Form CSREES-1234 and supporting documentation should be included as the last page of this proposal.

Even though a project may fall within the categorical exclusions, CSREES may determine that an Environmental Assessment or an Environmental Impact Statement is necessary for an activity, if substantial controversy on environmental grounds exists or if other extraordinary conditions or circumstances are present which may cause such activity to have a significant environmental effect.

C. Submission of Proposals

1. When To Submit (Deadline Date)

Proposals must be received on or before 5:00 P.M., June 19, 2001. Proposals received after this date will not be considered for funding.

2. What to Submit

An original and 14 copies must be submitted. In addition submit 10 copies of the proposal's Project Summary. All copies of the proposals and the Project Summaries must be submitted in one package.

3. Where to Submit

Applicants are strongly encouraged to submit completed proposals via overnight mail or delivery service to ensure timely receipt by the USDA. The address for hand-delivered proposals or proposals submitted using an express mail or overnight courier service is: Fund for Rural America, c/o Proposal Services Unit, Cooperative State Research, Education, and Extension Service, U.S. Department of Agriculture, Room 1307, Waterfront Centre, 800 9th Street, SW., Washington, DC 20024, Telephone: 202-205-0241.

Proposals sent via the U.S. Postal Service must be sent to the following address: Fund for Rural America, c/o Proposal Services Unit, Cooperative State Research, Education, and Extension Service, U.S. Department of Agriculture, STOP 2245, 1400 Independence Avenue, SW., Washington, DC 20250-2245, Telephone: 202-205-0241.

D. Acknowledgment of Proposals

The receipt of proposals will be acknowledged by e-mail. Therefore, applicants are encouraged to provide e-mail addresses, where designated, on the Form CSREES-661. If the applicant's e-mail address is not indicated, CSREES will acknowledge receipt of the proposal by letter.

Once the proposal has been assigned an identification number, please cite that number on all future correspondence. If the applicant does not receive an acknowledgment within 60 days of the submission deadline, please contact the Program Director.

E. Current Research Information System (CRIS)

For research projects CRIS Forms AD-416 and AD-417, will be requested if a proposal is identified for funding. In addition, grantees will be asked to submit annual CRIS progress reports.

Part IV. Review Process

A. General

Each proposal will be evaluated in a three-part process. First, each proposal will be screened to ensure that it falls within the scope of the request for proposals. Proposals that do not fall within the guidelines as stated in this RFP, including the Program Area Description, will be eliminated from competition and returned to the applicant. Second, proposals that meet these guidelines will be evaluated by a peer review panel which will provide written comments on and discuss each proposal prior to recommending applications for funding.

The peer review panel will be composed of persons who are uniquely qualified by training and experience in their respective fields to render expert advice on the merit, quality and relevance of the proposals. This training and experience includes academic training in research, education and extension as well as practical experience in community-related issues. Peer review panel members will be selected in such a way as to form a diverse group of individuals characterized by the following: (a) Academicians with relevant research, education or extension training and experience; (b) practitioners, including an appropriate mix of producers, entrepreneurs, consumers, community leaders, consultants, etc.); (c) a variety of organizational types (e.g., colleges, universities, industry, state and Federal agencies, private profit and non-profit organizations); (d) a variety of geographic locations; and (e) a broad gender, ethnic, racial, and age representation.

In addition to peer review, the National Agricultural Research, Extension, Education, and Economics Advisory Board will assess the relevance of projects recommended for funding toward achieving the programmatic goals of the FFRA.

B. Evaluation Factors

The review of applications submitted for funding consideration will consist of a technical evaluation conducted by CSREES using the competitive peer review process. The following evaluation factors will be applied. All evaluation factors will be weighted equally.

1. Merit: Scientific, technical, or educational merit: Well defined problem; clearly defined objectives; appropriateness of approach, (including selection of proper approach to address systems, multifaceted, or multidisciplinary problems); demonstrated integration of components (such as research, education and extension components); degree of feasibility; soundness and effectiveness of management plan.

2. Quality: Creativity and innovativeness in addressing problem and issues; selection of appropriate and qualified individuals to address problem; competence and experience of personnel; effective utilization of knowledge base in addressing problem; and potential to contribute solutions to stated problem.

3. Relevance: Proposal advances purposes for Federally supported research, education, and extension of Section 1402 of the National Agricultural Research, Extension, and Teaching Policy Act of 1977 (7 U.S.C. 3101); potential to contribute to economic diversification and sustainable development of rural communities; identification and involvement of stakeholders; involvement of communities of interest and stakeholders in the identification of problems set forth in proposal; and partnership with those affected by the outcome.

C. Conflicts-of-Interest and Confidentiality

During the peer evaluation process, extreme care will be taken to prevent any actual or perceived conflicts-of-interest that may impact review or evaluation. For the purpose of determining conflicts-of-interest, the academic and administrative autonomy of an institution shall be determined by reference to the 2000 Higher Education Directory, published by Higher Education Publications, Inc., 6400 Arlington Boulevard, Suite 648, Falls Church, Virginia 22042. Phone: (703) 532-2305.

Names of submitting institutions and individuals, as well as proposal content and peer evaluations, will be kept confidential, except to those involved in the review process, to the extent permitted by law. In addition, the identities of peer reviewers will remain confidential throughout the entire review process. Therefore, the names of reviewers will not be released to applicants. At the end of the fiscal year, names of panelists will be made available in such a way that the panelists cannot be identified with the review of any particular proposal.

Part V. Additional Information

A. Access To Review Information

Copies of summary reviews, not including the identity of reviewers, will be sent to the applicant PI/PD after the review process has been completed.

B. Grant Awards

(1) General

Within the limit of funds available for such purpose, the awarding official of CSREES shall make grants to those responsible, eligible applicants whose proposals are judged most meritorious under the procedures set forth in this RFP. The date specified by the Administrator as the effective date of the grant shall be no later than September 30. It should be noted that the project need not be initiated on the grant effective date, but as soon thereafter as practical so that project goals may be attained within the funded project period. All funds granted by CSREES under this RFP shall be expended solely for the purpose for which the funds are granted in accordance with the approved application and budget, the regulations, the terms and conditions of the award, the applicable Federal cost principles, and the Department's assistance regulations (parts 3015, 3016, and 3019 of 7 CFR).

(2) Organizational Management Information

Specific management information relating to an applicant shall be submitted on a one-time basis as part of the responsibility determination prior to the award of a grant identified under this RFP, if such information has not been provided previously under this or another CSREES program. CSREES will provide copies of forms recommended for use in fulfilling these requirements as part of the preaward process.

(3) Grant Award Document and Notice of Grant Award

The grant award document shall include at a minimum the following:

(a) Legal name and address of performing organization or institution to whom the Administrator has awarded a grant under the terms of this request for proposals;

(b) Title of project;

(c) Name(s) and address(es) of principal investigator(s) chosen to direct and control approved activities;

(d) Identifying grant number assigned by the Department;

(e) Project period, specifying the amount of time the Department intends to support the project without requiring recompetition for funds;

(f) Total amount of Departmental financial assistance approved by the Administrator during the project period;

(g) Legal authority(ies) under which the grant is awarded;

(h) Approved budget plan for categorizing allocable project funds to accomplish the stated purpose of the grant award; and

(i) Other information or provisions deemed necessary by CSREES to carry out its respective granting activities or to accomplish the purpose of a particular grant.

The notice of grant award, in the form of a letter, will be prepared and will provide pertinent instructions or information to the grantee that is not included in the grant award document.

C. Funding Mechanism

The mechanism by which grants may be awarded is a Standard grant. This is a funding mechanism whereby the Department agrees to support a specified level of effort for a predetermined time period without the announced intention of providing additional support at a future date.

D. Use of Funds; Changes

(1) Delegation of Fiscal Responsibility

Unless the terms and conditions of the grant state otherwise, the grantee may not in whole or in part delegate or transfer to another person, institution, or organization the responsibility for use or expenditure of grant funds.

(2) Changes in Project Plans

(a) The permissible changes by the grantee, PI/PD(s), or other key project personnel in the approved project grant shall be limited to changes in methodology, techniques, or other similar aspects of the project to expedite achievement of the project's approved goals. If the grantee or the PI/PD(s) is uncertain as to whether a change complies with this provision, the question must be referred to the CSREES Authorized Departmental Officer (ADO) for a final determination.

(b) Changes in approved goals or objectives shall be requested by the grantee and approved in writing by the ADO prior to effecting such changes. In no event shall requests for such changes be approved which are outside the scope of the original approved project.

(c) Changes in approved project leadership or the replacement or reassignment of other key project personnel shall be requested by the grantee and approved in writing by the ADO prior to effecting such changes.

(d) Transfers of actual performance of the substantive programmatic work in whole or in part and provisions for payment of funds, whether or not Federal funds are involved, shall be requested by the grantee and approved in writing by the ADO prior to effecting such transfers, unless prescribed otherwise in the terms and conditions of the grant.

(e) Changes in Project Period: The project period may be extended by CSREES without additional financial support, for such additional period(s) as the ADO determines may be necessary to complete or fulfill the purposes of an approved project. Institutions of higher education and other non-profit institutions by regulation can receive only one extension for a period not to exceed 12 months, 7 CFR 3019.25(e)(2). Any extension of time shall be conditioned upon prior request by the grantee and approval in writing by the ADO, unless prescribed otherwise in the terms and conditions of a grant, but in no case shall a grant period of performance exceed 5 years.

(f) Changes in Approved Budget: Changes in an approved budget must be requested by the grantee and approved in writing by the ADO prior to instituting such changes if the revision will involve transfers or expenditures of amounts requiring prior approval as set forth in the applicable Federal cost principles, Departmental regulations, or grant award.

E. Applicable Federal Statutes and Regulations

Several other Federal statutes and regulations apply to grant proposals considered for review and to project grants awarded under this program. These include, but are not limited to:

7 CFR Part 1, subpart A—USDA implementation of the Freedom of Information Act.

7 CFR Part 3—USDA implementation of OMB Circular No. A-129 regarding debt collection.

7 CFR Part 15, subpart A—USDA implementation of Title VI of the Civil Rights Act of 1964.

7 CFR Part 3015—USDA Uniform Federal Assistance Regulations, implementing OMB directives (i.e., Circular Nos. A-21 and A-122) and incorporating provisions of 31 U.S.C. 6301-6308, as well as general policy requirements applicable to recipients of Departmental financial assistance.

7 CFR Part 3016—Uniform Administrative Requirements for Grants and Cooperative Agreements to State and Local Governments.

7 CFR Part 3017—USDA implementation of Governmentwide Debarment and Suspension (Nonprocurement) and Governmentwide Requirements for Drug-Free Workplace (Grants).

7 CFR Part 3018—USDA implementation of Restrictions on Lobbying. Imposes prohibitions and requirements for disclosure and certification related to lobbying on recipients of Federal contracts, grants, cooperative agreements, and loans.

7 CFR Part 3019—USDA Uniform Administrative Requirements for Grants and Other Agreements With Institutions of Higher Education, Hospitals, and Other Nonprofit Organizations.

7 CFR Part 3052—USDA implementation of OMB Circular No. A-133, Audits of States, Local Governments, and Non-profit Organizations.

7 CFR Part 3407—CSREES supplemental regulations implementing the National Environmental Policy Act of 1969.

29 U.S.C. 794 (section 504, Rehabilitation Act of 1973) and 7 CFR Part 15b (USDA implementation of statute)—prohibiting discrimination based upon disability in Federally assisted programs.

35 U.S.C. 200 et seq.—Bayh-Dole Act, controlling allocation of rights to inventions made by employees of small business firms and domestic nonprofit organizations, including universities, in Federally assisted programs (implementing regulations are contained in 37 CFR Part 401).

F. Confidential Aspects of Proposals and Awards

When a proposal results in a grant, it becomes a part of the record of CSREES transactions, available to the public upon specific request. Information that the Secretary determines to be of a confidential, privileged, or proprietary nature will be held in confidence to the extent permitted by law. Therefore, any information that the applicant wishes to have considered as confidential, privileged, or proprietary should be clearly marked within the proposal. The original copy of a proposal that does not result in a grant will be retained by the CSREES for a period of one year. Other copies will be destroyed. Such a proposal will be released only with the consent of the applicant or to the extent required by law. A proposal may be withdrawn at any time prior to the final action thereon.

G. Regulatory Information

For the reasons set forth in the final Rule-related Notice to 7 CFR part 3015, subpart V (48 FR 29114, June 24, 1983), this program is excluded from the scope of the Executive Order 12372 which requires intergovernmental consultation with State and local officials. Under the provisions of the Paperwork Reduction Act of 1995 (44 U.S.C. chapter 35), the collection of information requirements contained in this Notice have been approved under OMB Document No. 0524-0022.

Done at Washington, DC, this 13th day of April 2001.
Louise Ebaugh,
Acting Administrator, Cooperative State Research, Education, and Extension Service.

[FR Doc. 01-9745 Filed 4-19-01; 8:45 am]

BILLING CODE 3410-22-P